EXPORT-IMPORT BANK

Economic Impact Policy

This notice is to inform the public that the Export-Import Bank of the United States has received an application for a $99 million comprehensive loan guarantee to support the export of approximately $110.4 million worth of aluminum beverage cans and ends manufacturing equipment to China. The U.S. exports will enable the Chinese company to produce approximately 2.8 billion aluminum cans per year. In addition, the foreign buyer will expand its existing annual ends production capacities by 2.6 billion ends for 2-piece cans, and by 1.3 billion ends for 3-piece cans.

Available information indicates that this new foreign aluminum cans and ends production will be entirely sold and consumed in China. Interested parties may submit comments on this transaction by email to economic.impact@exim.gov or by mail to 811 Vermont Avenue NW., Room 442, Washington, DC 20571, within 14 days of the date this notice appears in the Federal Register.

Angela Mariana Freyre,
Senior Vice President and General Counsel.

[FR Doc. 2013-13674 Filed 6-7-13; 8:45 am]

BILLING CODE 6690-01-P